DEPARTMENT OF ENERGY

Federal Energy Regulatory Commission

[Docket No. EL09-29-000; Docket No. EL09-30-000]

NorthWestern Corporation; Mountain States Transmission Intertie, LLC; NorthWestern Corporation; Notice of Technical Conference

February 25, 2009.

Take notice that the Commission Staff will convene a technical conference in the above-referenced proceedings on Thursday, March 12, 2009, at 1 p.m. (EDT), in a room to be designated at the offices of the Federal Energy Regulatory Commission, 888 First Street, NE., Washington, DC 20426.

At the conference, Commission Staff and interested persons will have the opportunity to discuss issues associated with the above-mentioned filings, including, but not be limited to: rates and service on the projects proposed by the filings; distinctions between the two projects; open seasons; queue procedures; system configuration and siting issues; and requested waivers. The Petitioners ¹ should be prepared to address all the concerns raised in the protests, and to provide, as necessary, additional support for the filings. A subsequent notice will be issued before the conference that will provide details of the issues that Staff wishes to discuss.

¹ Petitioners include Northwestern Corporation and Mountain States Transmission Intertie, LLC.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact either Timothy Duggan at (202) 502-8326 or e-mail Timothy.Duggan@ferc.gov, or Katie Detweiler at (202) 502-6426 or e-mail Katie.Detweiler@ferc.gov.

Kimberly D. Bose,
Secretary.

[FR Doc. E9-4711 Filed 3-4-09; 8:45 am]

BILLING CODE 6717-01-P